DEPARTMENT OF COMMERCE

Foreign-Trade Zones Board

[B-9-2021]

Foreign-Trade Zone (FTZ) 18—San Jose, California; Authorization of Production Activity, Enovix Corporation, (Lithium Ion Metal Batteries), Fremont, California

On February 10, 2021, Enovix Corporation (Enovix) submitted a notification of proposed production activity to the FTZ Board for its facility within FTZ 18, in Fremont, California.

The notification was processed in accordance with the regulations of the FTZ Board (15 CFR part 400), including notice in the Federal Register inviting public comment (86 FR 10532, February 22, 2021). On June 10, 2021, the applicant was notified of the FTZ Board's conditional decision that no further review of the activity is warranted at this time. The production activity described in the notification was authorized, subject to the FTZ Act and the Board's regulations, including Section 400.14, and further subject to a five-year time limit (ending June 10, 2026).

Dated: June 10, 2021.
Andrew McGilvray,
Executive Secretary.

[FR Doc. 2021-12559 Filed 6-14-21; 8:45 am]

BILLING CODE 3510-DS-P